DEPARTMENT OF THE TREASURY

Bureau of the Public Debt

Privacy Act of 1974, as Amended; System of Records

AGENCY: Bureau of the Public Debt, Treasury.

ACTION: Notice of a new Privacy Act system of records.

SUMMARY: The Treasury Department, Bureau of the Public Debt, proposes to add a new system of records to its inventory of records systems subject to the Privacy Act of 1974 (5 U.S.C. 552a), as amended. This action is necessary to meet the requirements of the Privacy Act to publish in the Federal Register notice of the existence and character of records systems maintained by the agency (5 U.S.C. 552a(e)(4)).

DATES: The Bureau of the Public Debt invites interested parties to submit comments concerning the new system of records on or before March 19, 2001. The new system will become effective without further notice on March 29, 2001 unless comments dictate otherwise.

ADDRESSES: Please send written comments to: Privacy Act Officer, Bureau of the Public Debt, 999 E Street, NW., Room 500, Washington, DC 20239-0001.

FOR FURTHER INFORMATION CONTACT: Catherine Sargent, Information Resources Management Analyst, (304) 480-7751.

SUPPLEMENTARY INFORMATION: The purpose of this system of records is to support Public Debt business processes, provide electronic services to the public (E-government), and improve service to investors in Treasury securities.

Participation by Treasury securities customers and potential customers is entirely voluntary. Information collected will allow Public Debt to personalize services and provide choices relating to the presentation of account information held in Public Debt systems.

The new system of records report as required by 5 U.S.C. 552a(r) of the Privacy Act has been submitted to the Committee on Government Operations of the House of Representatives, the Committee on Governmental Affairs of the Senate, and the Office of Management and Budget, pursuant to Appendix I to OMB Circular A-130, “Federal Agency Responsibilities for Maintaining Records About Individuals,” dated February 8, 1996.

The proposed Treasury/BPD .008-Retail Treasury Securities Access Application is published in its entirety below.

Dated: February 8, 2001.
W. Earl Wright, Jr.,
Chief Management and Administrative Programs Officer.

TREASURY/BPD.008

System Name:

Retail Treasury Securities Access Application—Treasury/BPD.

System Location:

Records are maintained at the following Public Debt locations: (1) 200 Third Street, Parkersburg, WV; (2) Park Center, 90 Park Center, Parkersburg, WV; (3) H.J. Hintgen Building, 2nd and Avery Streets, Parkersburg, WV; (4) United Building, 5th and Avery Streets, Parkersburg, WV; and 999 E Street, NW., Washington, DC.

Categories Of Individuals Covered By The System:

Records cover those individuals who own or make inquiries concerning United States Treasury securities.

Categories Of Records In The System:

The types of personal information collected/used by this system are necessary to ensure the accurate identification of individuals doing business with Public Debt or to provide personalized service to these individuals. The types of personal information presently include or potentially could include the following:

(a) Personal identifiers (name, including previous name used; Social Security number; physical and electronic addresses; telephone, fax, and pager numbers);

(b) authentication aids (personal identification number, password, account number, shared-secret identifier, digitized signature, or other unique identifier);

(c) customer demographics (age, gender, marital status, income, number in household, etc.); and

(d) customer preferences (favorite color, hobby, magazine, etc.; preferred sources for information, such as television, newspaper, Internet, etc; or dates of importance to the customer, such as birth, anniversary, etc.).

Authority For Maintenance Of The System:

31 U.S.C. 3101, et seq. and 5 U.S.C. 301.

Purpose:

The purpose of this system of records is to support Public Debt business processes, process electronic services to the public (E-government), and improve service to investors in Treasury securities.

Routine Uses Of Records Maintained In The System, Including Categories Of Users And The Purposes Of Such Uses:

These records may be disclosed to:

(1) Appropriate Federal, State, local, or foreign agencies or other public authority responsible for investigating or prosecuting the violations of, or for enforcing or implementing a statute, rule, regulation, order or license where the disclosing agency becomes aware of an indication of a violation or potential violation of civil or criminal law or regulation;

(2) A court, magistrate, or administrative tribunal in the course of presenting evidence, including disclosures to opposing counsel or witnesses in the course of civil discovery, litigation, or settlement negotiations, or in response to a court-ordered subpoena, or in connection with criminal law proceedings where relevant or potentially relevant to a proceeding;

(3) A congressional office in response to an inquiry made at the request of the individual to whom the record pertains;

(4) Agents or contractors who have been engaged to assist the Bureau of the Public Debt in the performance of a service related to this system of records and who need to have access to the records in order to perform the activity;

(5) The Department of Justice when seeking legal advice or when (a) the Department of the Treasury (agency) or (b) the Bureau of the Public Debt, or (c) any employee of the agency in his or her official capacity, or (d) any employee of the agency in his or her individual capacity where the Department of Justice has agreed to represent the employee, or (e) the United States, where the agency determines that litigation is likely to affect the agency or the Bureau of the Public Debt, is a party to litigation or has an interest in such litigation, and the use of such records by the Department of Justice is deemed by the agency to be relevant and necessary to the litigation.

Policies And Practices For Storing, Retrieving, Accessing, Retaining, And Disposing Of Records In The System:

Storage:

Records are maintained on electronic media, multiple client-server platforms that are backed-up to magnetic tape or other storage media, and/or hard copy.

Retrievability:

Records may be retrieved by name, alias names, Social Security number, account number, or other unique identifier.

Safeguards:

Public Debt has sophisticated Internet firewall security via hardware and software configurations as well as specific monitoring tools. Records are maintained in controlled access areas. Identification cards are verified to ensure that only authorized personnel are present. Electronic records are protected by restricted access procedures, including the use of passwords, sign-on protocols, and user authentication that are periodically changed. Only employees whose official duties require access are allowed to view, administer, and control these records.

Retention And Disposal:

Public Debt is in the process of requesting approval of a new records schedule that will permit records to be maintained for not more than 90 calendar days after the business relationship with the customer ends. These records will not be destroyed until we receive such approval. Paper records that are ready for disposal are destroyed by shredding or burning. Records in electronic media are electronically erased using accepted techniques.

System Manager And Address:

Assistant Commissioner and Chief Information Officer, Office of Information Technology, Bureau of the Public Debt, 200 Third Street, Parkersburg, WV 26101.

Notification Procedure:

Individuals may submit their requests for determination of whether the system contains records about them or for access to records as provided under “Records Access Procedures.” Requests must be made in compliance with the applicable regulations (31 CFR part 1, subpart C). Requests which do not comply fully with these procedures may result in noncompliance with the request, but will be answered to the extent possible.

Record Access Procedures:

(1) A request for access to records must be in writing, signed by the individual concerned, identify the system of records, and clearly indicate that the request is made pursuant to the Privacy Act of 1974. If the individual is seeking access in person, identity may be established by the presentation of a single official document bearing the individual's photograph or by the presentation of two items of identification without the photograph but showing a name and signature. If the individual is seeking access by mail, identity may be established by presenting a signature, address, and one other identifier such as a photocopy of an official document bearing the individual's signature. The Bureau of the Public Debt reserves the right to require additional verification of an individual's identity.

(2) The request should be submitted to the Assistant Commissioner and Chief Information Officer, Office of Information Technology, Bureau of the Public Debt, 200 Third Street, Parkersburg, WV, 26101. The request must state whether the requester wishes to be notified that the record exists or desires to inspect or obtain a copy of the record. If a copy of the record is desired, the requester must agree to pay the fees for copying the documents in accordance with 31 CFR 1.26(d)(2)(ii).

Contesting Record Procedures:

Initial amendment requests: (1) A request by an individual contesting the content of records or for correction of records must be in writing, signed by the individual involved, identify the system of records, and clearly state that the request is made pursuant to the Privacy Act of 1974. If the request is made in person, identity may be established by the presentation of a single official document bearing the individual's photograph or by the presentation of two items of identification without the photograph but instead showing a name and signature. If the request is made by mail, identity may be established by the presentation of a signature, address, and one other identifier such as a photocopy of an official document bearing the individual's signature. The Bureau of the Public Debt reserves the right to require additional verification of an individual's identity.

(2) The initial request should be submitted to the Assistant Commissioner and Chief Information Officer, Office of Information Technology, Bureau of the Public Debt, 200 Third Street, Parkersburg, WV, 26101.

(3) The request should specify: (a) The dates of records in question, (b) the specific records alleged to be incorrect, (c) the correction requested, and (d) the reasons.

(4) The request must include available evidence in support of the request.

Appeals from an initial denial of a request for correction of records: (1) An appeal from an initial denial of a request for correction of records must be in writing, signed by the individual involved, identify the system of records, and clearly state that it is made pursuant to the Privacy Act of 1974. If the individual is making an appeal in person, identity may be established by the presentation of a single official document bearing the individual's photograph or by the presentation of two items of identification without the photograph but showing a name and signature. If the individual is making an appeal by mail, identity may be established by the presentation of a signature, address, and one other identifier such as a photocopy of an official document bearing the individual's signature. The Bureau of the Public Debt reserves the right to require additional verification of an individual's identity.

(2) Appellate determinations will be made by the Commissioner of the Public Debt or the delegate of such officer. Appeals should be addressed to, or delivered personally to: Chief Counsel, Bureau of the Public Debt, 999 E Street, NW., Room 502, Washington, DC 20239-0001 (or as otherwise provided for in the applicable appendix to 31 CFR part 1, subpart C), within 35 days of the individual's receipt of the initial denial of the requested correction.

(3) An appeal must be marked “Privacy Act Amendment Appeal” and specify: (a) The records to which the appeal relates, (b) the date of the initial request made for correction of the records, and (c) the date the initial denial of the request for correction was received.

(4) An appeal must also specify the reasons for the requester's disagreement with the initial denial of correction and must include any applicable supporting evidence.

Record Source Categories:

Information is provided by the individual covered by this system of records or, with their authorization, is derived from other systems of records.

Exemptions Claimed For The System:

None.

[FR Doc. 01-3841 Filed 2-14-01; 8:45 am]

BILLING CODE 4810-39-P